DEPARTMENT OF JUSTICE

Notice of Lodging of the Consent Decree under the Clean Water Act

Notice is hereby given that on June 4, 2012, a proposed Consent Decree in United States v. Municipality of Arecibo and the Commonwealth of Puerto Rico, Civil Action No. 3:12-CV-01419, was lodged with the United States Court for the District of Puerto Rico.

The proposed Consent Decree resolves violations alleged in the Complaint filed against the Municipality of Arecibo (“Arecibo”) which generally alleges that: (1) Arecibo failed to timely obtain coverage under the Small MS4 General Permit; (2) Arecibo discharged storm water into waters of the United States without a permit until receiving coverage under the Small MS4 General Permit; (3) Arecibo violates its Small MS4 General Permit by discharging sewage and sewage sludge not permitted by its permit; failing to develop, implement and enforce a program to detect and eliminate illicit discharges or to take all reasonable steps to minimize or prevent any discharges in violation of its permit; and failing to properly operate and maintain its system; and (4) discharges untreated sewage from its MS4 onto public and private property and into residential dwellings and other buildings where the public has or may have come into contact with the sewage.

The proposed Consent Decree addresses the violations identified above by requiring Arecibo to conduct the following: Implement a Storm Water Management Plan (SWMP); provide training to the Municipality's employees who are responsible for complying with the terms of the Consent Decree and annual training for all employees that work at the pump station; comply with the Operation and Preventive Maintenance Plan recently approved by EPA; construct a New Pump Station and three storm water retention ponds; implement interim pump station operation procedures until the New Pump Station is in operation (including cleaning, disinfection, disposal and sampling); and completion of required closed circuit television studies of various watershed areas in the Municipality and repair and/or replace sewers as necessary. The injunctive relief to be completed under the Consent Decree is estimated to cost approximately $56 million. Arecibo also agrees to pay a civil penalty of $305,643 in three installment payments over the next two years.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to the matter as United States v. Municipality of Arecibo and the Commonwealth of Puerto Rico, D.J. Ref. 90-5-1-1-09891.

The Consent Decree may be examined at the Office of the United States Attorney, Torre Chardon Suite 1201, 350 Carlos Chardon Avenue, San Juan, Puerto Rico 00918, and at U.S. EPA CEPD office, City View Plaza—Suite 7000, #48 Rd. 165 KM. 1.2, Guaynabo, Puerto Rico 00968-8069. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-1547. In requesting a copy from the Consent Decree Library, please enclose a check in the amount of $16.00 (25 cents per page reproduction costs of the Consent Decree) payable to the U.S. Treasury or, if by email or fax, forward a check in that amount to the Consent Decree Library at the stated address.

Ronald G. Gluck,
Assistant Section Chief, Environmental Enforcement Section, Environment and Natural Resource Division.

[FR Doc. 2012-13961 Filed 6-7-12; 8:45 am]

BILLING CODE 4410-15-P